DEPARTMENT OF HEALTH AND HUMAN SERVICES

Phase Four of the National Action Plan To Prevent Health Care-Associated Infections: Road Map to Elimination; Coordination Among Federal Partners To Leverage HAI Prevention and Antibiotic Stewardship

AGENCY: U.S. Department of Health and Human Services, Office of the Secretary, Office of the Assistant Secretary for Health, Office of Disease Prevention and Health Promotion.

ACTION: Notice.

SUMMARY: The Office of Disease Prevention and Health Promotion and the Federal Steering Committee for the Prevention of HAIs have developed a new phase of the National Action Plan to Prevent Health Care-Associated Infections: Road Map to Elimination (HAI Action Plan). The first three phases of the HAI Action Plan meaningfully enhanced coordination of federal efforts to address HAIs by establishing a structure to regularly share best practices, resources, and lessons learned among federal partners. Given the pressing public health threat of antibiotic resistance and the need to maximize efficiency of federal activities, the Steering Committee recognized the opportunity to leverage this existing committee and network of participants to enhance the implementation of the CARB National Action Plan goal of slowing the emergence of antibiotic resistant bacteria and preventing the spread of resistant infections through antibiotic stewardship programs. Thus, Phase Four of the HAI Action Plan focuses on the importance of antibiotic stewardship to prevent HAIs, and specifically highlights the coordination between various health agencies. Recommendations within Phase Four align and reinforce the goals and objectives of the CARB National Action Plan. This update to the HAI Action Plan reaffirms a federal commitment to improving health care quality and protecting the health of all Americans. Phase Four is titled: Coordination among Federal Partners to Leverage HAI Prevention and Antibiotic Stewardship. The Steering Committee and the Office of Disease Prevention and Health Promotion invite public and private professionals, organizations, and consumer representatives to provide comments on the most recent draft of Phase Four.

DATES: Comments on the proposed Phase Four of the National Action Plan to Prevent Health Care-Associated Infections: Road Map to Elimination must be received no later than 5 p.m. on December 26, 2017.

ADDRESSES: Interested persons or organizations are invited to submit written comments by any of the following methods:

• Email: OHQ@hhs.gov (please indicate in the subject line: Phase Four: HAI Action Plan).

• Mail/Courier: Office of Disease Prevention and Health Promotion, Attn: Division of Health Care Quality, Department of Health and Human Services, 1101 Wootton Parkway, Suite LL100, Rockville, MD 20852.

FOR FURTHER INFORMATION CONTACT: Anna Gribble, Health Policy Fellow, Office of Disease Prevention and Health Promotion, via email at anna.gribble@hhs.gov.

SUPPLEMENTARY INFORMATION: HAIs are a significant cause of morbidity and mortality within the United States, and at any given time, approximately one in every 25 hospitalized patients has at least one HAI. This translates to approximately 1.7 million individuals each year. In 2008, the Department of Health and Human Services established the Steering Committee for the Prevention of HAIs. The Committee consists of senior-level leaders from across the Department including clinicians, scientists, and public health practitioners. In 2009, the first iteration of the HAI Action Plan was developed and focused on addressing high-priority HAI-related infections within acute care hospital settings. However, given the movement of patients between various health care settings, infection control and the prevention and elimination of HAIs could no longer be compartmentalized to any one type of facility. The Steering Committee decided to expand the scope of its activities to include additional settings and released a second phase of the HAI Action Plan in 2009 with three new areas of focus: HAIs in ambulatory surgical centers and end-stage renal disease facilities, as well as increasing influenza vaccination coverage among health care personnel. The Committee expanded the action plan yet again in 2013 with a third phase which included long-term care facilities. More recently, the emergence of antibiotic-resistant bacteria and the clear tie with health care-associated infections has led the Steering Committee to focus on antibiotic stewardship. In July 2016, the Steering Committee decided to develop Phase Four of the HAI Action Plan to cover the federal partners coordinated approach to preventing HAIs and implementing antibiotic stewardship initiatives and to describe the clear tie between these two health care quality concerns.

Interested persons or organizations are invited to submit written comments in response to the proposed Phase Four of the HAI Action Plan. Written comments should not exceed more than two pages. The comments should reference the specific section of the document to which feedback refers. To be considered, the person or representative from an organization must self-identify and submit the written comments by close of business on December 26, 2017.

Dated: November 20, 2017.
Don Wright,
Deputy Assistant Secretary for Health, (Disease Prevention and Health Promotion).

[FR Doc. 2017-25424 Filed 11-22-17; 8:45 am]

BILLING CODE 4150-32-P